DEPARTMENT OF TRANSPORTATION

Federal Railroad Administration

[Docket No. FRA-2025-0004]

Proposed Agency Information Collection Activities; Comment Request

AGENCY: Federal Railroad Administration (FRA), Department of Transportation (DOT).

ACTION: Notice of information collection; request for comment.

SUMMARY: Under the Paperwork Reduction Act of 1995 (PRA) and its implementing regulations, FRA seeks approval of the Information Collection Request (ICR) summarized below. Before submitting this ICR to the Office of Management and Budget (OMB) for approval, FRA is soliciting public comment on specific aspects of the activities identified in the ICR.

DATES: Interested persons are invited to submit comments on or before August 19, 2025.

ADDRESSES: Written comments and recommendations for the proposed ICR should be submitted on www.regulations.gov to Docket No. FRA-2025-0004. All comments received will be posted without change to the docket, including any personal information provided. Please refer to the assigned OMB control number (2130-0633) in any correspondence submitted. FRA will summarize comments received in a subsequent 30-day notice and include them in its information collection submission to OMB.

FOR FURTHER INFORMATION CONTACT: Ms. Arlette Mussington, Information Collection Clearance Officer, at email: arlette.mussington@dot.gov or telephone: (571) 609-1285 or Ms. Joanne Swafford, Information Collection Clearance Officer, at email: joanne.swafford@dot.gov or telephone: (757) 897-9908.

SUPPLEMENTARY INFORMATION: The PRA, 44 U.S.C. 3501-3520, and its implementing regulations, 5 CFR part 1320, require Federal agencies to provide 60 days' notice to the public to allow comment on information collection activities before seeking OMB approval of the activities. See 44 U.S.C. 3506, 3507; 5 CFR 1320.8 through 1320.12. Specifically, FRA invites interested parties to comment on the following ICR regarding: (1) whether the information collection activities are necessary for FRA to properly execute its functions, including whether the activities will have practical utility; (2) the accuracy of FRA's estimates of the burden of the information collection activities, including the validity of the methodology and assumptions used to determine the estimates; (3) ways for FRA to enhance the quality, utility, and clarity of the information being collected; and (4) ways for FRA to minimize the burden of information collection activities on the public, including the use of automated collection techniques or other forms of information technology. See 44 U.S.C. 3506(c)(2)(A); 5 CFR 1320.8(d)(1).

FRA believes that soliciting public comment may reduce the administrative and paperwork burdens associated with the collection of information that Federal regulations mandate. In summary, comments received will advance three objectives: (1) reduce reporting burdens; (2) organize information collection requirements in a “user-friendly” format to improve the use of such information; and (3) accurately assess the resources expended to retrieve and produce information requested. See 44 U.S.C. 3501.

The summary below describes the ICR that FRA will submit for OMB clearance as the PRA requires.

Title: Fatigue Risk Management Program for Certain Passenger and Freight Railroads.

OMB Control Number: 2130-0633.

Abstract: In 2022, FRA issued a final rule that revised 49 CFR part 270—System Safety Program (SSP) and part 271—Risk Reduction Program (RRP) to require railroads subject to those rules ¹ to include a fatigue risk management program (FRMP) as one part of their railroad safety risk reduction programs.² A railroad must adopt and implement its FRMP through an FRMP plan that the railroad has submitted to FRA for review and approval.³ These FRMP requirements are found at part 270, subpart E—Fatigue Risk Management Programs and at part 271, subpart G—Fatigue Risk Management Programs.

¹ Part 270 applies to passenger rail operations (defined in 49 CFR 270.5 to mean “intercity, commuter, or other short-haul passenger rail service[s]”), and part 271 applies to Class I freight railroads, railroads that FRA determines demonstrate inadequate safety performance (ISP), and freight railroads that elect to voluntarily comply with part 271. See 49 CFR 270.3 and 271.3(a).

² 87 FR 35660-35675 (June 13, 2022). FRA issued the RRP, SSP, and FRMP final rules to implement a mandate in the Rail Safety Improvement Act of 2008 stating that FRA must require certain railroads to develop and implement a railroad safety risk reduction program that includes a fatigue management plan as one of its components. 49 U.S.C. 20156(d)(2) and (f).

³ §§ 270.409(a) and 271.609(a). A railroad must also consult with its directly affected employees and use good faith and best efforts to reach agreement with the employees on the contents of its FRMP plan. Id.

FRA will use the information collected to ensure that railroads are developing and implementing an FRMP that meets regulatory requirements. FRA will also use the collected information to determine whether a railroad's FRMP is improving railroad safety through the reduction of fatigue experienced by its safety-related railroad employees.

The purpose of an FRMP is to improve railroad safety through structured, systematic, and proactive processes and procedures that a railroad develops and implements to identify and mitigate the effects of fatigue on its employees.⁴ A railroad must design its FRMP, in part, to reduce fatigue experienced by its safety-related railroad employees and to reduce the risk of railroad accidents, incidents, injuries, and fatalities where the fatigue of any of these employees is a contributing factor.⁵ As part of a railroad's SSP or RRP, each FRMP must be an ongoing program that supports continuous safety improvement.⁶ A railroad must include its FRMP in the annual internal assessment of its SSP or RRP, and FRA also includes FRMPs in its external audits of a railroad's RRP or SSP to ensure that the railroad's FRMP processes and procedures comply with the FRMP regulation.⁷

⁴ §§ 270.403(a) and 271.603.

⁵ §§ 270.403(b)(1) and 271.603(b)(1).

⁶ §§ 270.103(p)(1)(vii) and 271.101(a).

⁷ §§ 270.303, 270.305, 270.405, 271.401, 271.501, and 271.605.

In this 60-day notice, FRA has made multiple adjustments to the estimated paperwork burdens. FRA's estimate of all burden hours under this ICR has decreased from 1,440 hours to 436 hours, and the number of estimated responses decreased from 55 to 12. These adjustments reflect that most railroads have submitted their initial FRMP plans to FRA. This submission reflects burden estimates for only those railroads that must develop and implement a new FRMP or that are amending their existing plans. Because FRMPs are included as part of a railroad's broader SSP or RRP, the estimated paperwork burdens associated with regulatory requirements related to railroad internal assessments and FRA external audits that involve an FRMP are covered under OMB Control Numbers 2130-0599 and 2130-0610.

Type of Request: Extension without change (with changes in estimates) of a currently approved collection.

Affected Public: Businesses.

Form(s): N/A

Respondent Universe: 6 Class I railroads, 15 ISP railroads, and 35 passenger rail operations.

Frequency of Submission: On occasion.

⁸ The dollar equivalent cost is derived from the 2023 Surface Transportation Board Full Year Wage A&B data series using employee group 200 (Professional Administrative Staff) hourly wage rate of $50.93. The total burden wage rate (straight time plus 75%) used in the table is $89.13 ($50.93 × 1.75 = $89.13).

Reporting Burden
CFR section | Respondent universe | Total annual responses | Average time per response (hours) | Total annual burden hours | Wage rate ⁸ | Total annual dollar cost equivalent
|  | (A) | (B) | (C) = A * B |  | (D) = C * wage rates
270.407 Requirements for a Fatigue Risk Management Program (FRMP)
270.407 An FRMP shall include an analysis of fatigue risks and mitigation strategies | The estimated paperwork burden for this regulatory requirement is covered under § 270.409.
270.409 Requirements for an FRMP plan
270.409(a) through (d)— New FRMP Plan as part of its SSP containing the following elements: • Analysis of fatigue risk • Mitigation strategies • Evaluation—processes to monitor the overall effectiveness of the FRMP • FRMP implementation plan • Consultation with directly affected employees on FRMP plan contents | 35 Passenger rail operations | 1 | 77.5 | 77.5 | $89.13 | $6,907.58
—Initial meeting with FRA to review FRMP plan. | 35 Passenger rail operations | 1 | 16 | 16 | 89.13 | 1,426.08
—Amendments to FRMP plans already approved (§ 270.405(d)) | 35 Passenger rail operations | 2 | 20 | 40 | 89.13 | 3,565.20
271.607 Requirements for an FRMP
271.607 An FRMP shall include an analysis of fatigue risks and mitigation strategies | The estimated paperwork burden for this regulatory requirement is covered under § 271.609.
271.609 Requirements for an FRMP Plan
271.609(a) through (d)— New FRMP Plan as part of its RRP containing the following elements: | 6 Class I railroads | FRA anticipates there will be no new Class I FRMPs submitted over the next three-year period.
• Analysis of fatigue risk • Mitigation strategies • Evaluation—processes to monitor the overall effectiveness of the FRMP • FRMP implementation plan • Consultation with directly affected employees on FRMP plan contents | 15 ISP railroads | 2 | 76 | 152 | 89.13 | 13,547.76
—Initial meeting with FRA to review FRMP plan | 6 Class I railroads | FRA anticipates there will be no new Class I FRMPs submitted over the next three-year period.
| 15 ISP railroads | 2 | 16 | 30 | 89.13 | 2,673.90
—Amendments to FRMP plans already approved (§ 271.605(d)) | 6 Class I railroads | 2 | 40 | 80 | 89.13 | 7,130.40
| 15 ISP railroads | 2 | 20 | 40 | 89.13 | 3,565.20
Totals | 35 Passenger rail operations; 6 Class I railroads; and 15 ISP railroads | 12 responses | N/A | 436 |  | 38,816

Total Estimated Annual Responses: 12.

Total Estimated Annual Burden: 436.

Total Estimated Annual Burden Hour Dollar Cost Equivalent: $38,816.

FRA informs all interested parties that it may not conduct or sponsor, and a respondent is not required to respond to, a collection of information that does not display a currently valid OMB control number.

Authority: 44 U.S.C. 3501-3520.

Christopher S. Van Nostrand,
Deputy Chief Counsel.

[FR Doc. 2025-11279 Filed 6-18-25; 8:45 am]

BILLING CODE 4910-06-P